DEPARTMENT OF THE INTERIOR

Bureau of Land Management

[ID-400-1120-PH]

Notice of Public Meeting, Coeur d'Alene District Resource Advisory Council Meeting; Idaho

AGENCY: Bureau of Land Management, Interior.

ACTION: Notice of public meeting.

SUMMARY: In accordance with the Federal Land Policy and Management Act (FLPMA) and the Federal Advisory Committee Act of 1972 (FACA), the U.S. Department of the Interior, Bureau of Land Management (BLM) Coeur d'Alene District Resource Advisory Council (RAC) will meet as indicated below.

DATES: September 8 and 9, 2005. During the afternoon of September 8, the RAC members will stop at several field locations along the Lower Salmon River south of Cottonwood, Idaho. On September 9th the RAC will hold a meeting at the Salmon River Rapids Lodge located at 1010 S. Main St. in Riggins, Idaho. The meeting will be held from 8 a.m. to about 10 a.m., after which the RAC will make field visits to several locations in the Riggins area. The public comment period will be from 8 a.m. to 9 a.m. on September 9, 2005.

FOR FURTHER INFORMATION CONTACT: Stephanie Snook, RAC Coordinator, BLM Coeur d'Alene District, 1808 N. Third Street, Coeur d'Alene, Idaho 83814 or telephone (208) 769-5004.

SUPPLEMENTARY INFORMATION: The 15-member Council advises the Secretary of the Interior, through the Bureau of Land Management, on a variety of planning and management issues associated with public land management in Idaho. Agenda items for this meeting include: The Lower Salmon River proposed mineral withdrawal, invasive species, noxious weeds, and weed treatments. Reports or updates on current issues will include the OHV Task Force, Salmon River trail, accessibility issues, and Resource Management Plans for the Coeur d'Alene and Cottonwood Field Offices.

All meetings are open to the public. The public may present written comments to the Council. Each formal Council meeting will also have time allocated for hearing public comments. Depending on the number of persons wishing to comment and time available, the time for individual oral comments may be limited. Individuals who plan to attend and need special assistance, such as sign language interpretation or other reasonable accommodations, should contact the BLM as provided above.

Dated: August 5, 2005.
Lewis M. Brown,
District Manager.

[FR Doc. 05-15883 Filed 8-9-05; 8:45 am]

BILLING CODE 4310-GG-M